DEPARTMENT OF COMMERCE

National Institute of Standards and Technology

Prospective Grant of Exclusive Patent License

AGENCY: National Institute of Standards and Technology, Commerce.

ACTION: Notice of Prospective Grant of Exclusive Patent License.

SUMMARY: This is a notice in accordance with 35 U.S.C. 209(c)(1) and 37 CFR 404.7(a)(1)(i) that the National Institute of Standards and Technology (“NIST”), U.S. Department of Commerce, is contemplating the grant of an exclusive license in the United States of America, its territories, possessions and commonwealths, to NIST's interest in the invention embodied in U.S. Patent Application No. 09/122,583, titled, “Designed Protein Pores As Components For Biosensors,” filed July 24, 1998; NIST Docket No. 98-016, to the University of Massachusetts, 365 Plantation Street, Suite, 130, Worcester, MA 01605. The grant of the license would be for the field of Biological Applications.

FOR FURTHER INFORMATION CONTACT: J. Terry Lynch, (301) 975-2691, National Institute of Standards and Technology, Office of Technology Partnerships, 100 Bureau Drive, Stop 2200, Gaithersburg, MD 20899.

SUPPLEMENTARY INFORMATION: The prospective exclusive license will be royalty sharing and will comply with the terms and conditions of 35 USC 209 and 37 CFR 404.7. The prospective exclusive license may be granted unless, within thirty days from the date of this published Notice, NIST receives written evidence and argument which establish that the grant of the license would not be consistent with the requirements of 35 USC 209 and 37 CFR 404.7. The availability of the invention for licensing was published in the Federal Register, Vol. 65, No. 53 (March 17, 2000).

U.S. Patent Application No. 09/122,583 is jointly owned by the U.S. government, as represented by the Secretary of Commerce, Worcester Institute, and the University of Chicago. The present invention relates to a mutant staphylococcal alpha hemolysin polypeptide containing a heterologous analyte-binding amino acid which assembles into an analyte-responsive heteroheptameric pore assembly in the presence of a wild type staphylococcal alpha hemolysin polypeptide, digital biosensors, and methods of detecting, identifying and quantifying analytes.

Dated: March 5, 2002.
Karen H. Brown,
Deputy Director.

[FR Doc. 02-5917 Filed 3-11-02; 8:45 am]

BILLING CODE 3510-13-P